DEPARTMENT OF HEALTH AND HUMAN SERVICES

Centers for Disease Control and Prevention

Statement of Organization, Functions, and Delegation of Authority

Part C (Centers for Disease Control and Prevention) of the Statement of Organization, Functions, and Delegations of Authority of the Department of Health and Human Services (45 FR 67772-76, dated October 14, 1980, and corrected at 45 FR 69296, October 20, 1980, as amended most recently at 68 FR 65935-37, dated November 24, 2003) is amended to reflect the reorganization of the National Center for Environmental Health (NCEH).

Section C-B, Organization and Functions, is hereby amended as follows:

Delete the functional statement for the Office of the Director (CNI) and insert the following:

(1) Manages, directs, coordinates, and evaluates all health-related programs of NCEH and ATSDR; (2) provides overall leadership in health-related activities for hazardous substances, hazardous waste sites and chemical releases; (3) provides overall coordination for the research programs and science policies of the agencies; (4) develops goals and objectives and provides leadership, policy formulation, scientific oversight, and guidance in program planning and development; (5) provides overall budgetary and human resource management and administrative support; (6) provides information, publication and distribution services to NCEH/ATSDR; (7) maintains liaison with other Federal, State, and local agencies, institutions, and organizations; (8) coordinates NCEH/ATSDR program activities with other CDC components, other Federal, State and local Government agencies, the private sector, and other nations; and (9) directs and coordinates activities in support of the Department's Equal Employment Opportunity program and employee development.

Delete in its entirety the title and function statement for the Special Programs Group (CN11).

Following the functional statement for the Office of the Director (CN1), insert the following:

Office of Communications (CN12). (1) Provides technical assistance to Divisions on management issues, public affairs, and health communications strategies; (2) collaborates with external organizations and the news, public service, and entertainment and other media to ensure that effective findings and their implications for public health reach the public; (3) collaborates closely with Divisions to produce materials designed for use by the news media, including press releases, letters to the editor, public service announcements, television programming, video news releases, and other electronic and printed materials; (4) secures appropriate clearance of these materials within NCEH/ATSDR and CDC; (5) coordinates the development and maintenance of Center/Agency-wide information systems through an Internet Home Page; (6) develops strategies and operational systems for the proactive dissemination of effective findings and their implications for prevention partners and the public; (7) apart from the clearinghouses, hotlines, or other contractual mechanisms, responds to public inquiries and distributes information materials; (8) provides editorial, graphics, and publishing services for NCEH/ATSDR staff; (9) operates a NCEH/ATSDR Information Center; (10) maintains liaison with CDC public affairs and communications staff offices; (11) provides publications-related activities including editing, preparing articles and drafting news releases, distributing publications, and bibliographic services; and (12) provides public relations and publication-related activities.

Delete the title and functional statement for the Office of Planning, Evaluation, and Legislation (CN13) and insert the following:

Office of Policy, Planning, and Evaluation (CN13). (1) Coordinates, develops, recommends and implements strategic planning and tracking for NCEH/ATSDR; (2) develops and manages an evaluation program to ensure adequacy and responsiveness of NCEH/ATSDR activities; (3) participates in reviewing, coordinating, and preparing legislation, briefing documents, Congressional testimony, and other legislative matters; (4) maintains liaison and coordinates with other Federal agencies for program planning and evaluation; (5) assists in the development of NCEH/ATSDR budget and program initiatives; (6) provides liaison with staff offices and other officials of CDC; (7) monitors and prepares reports on health-related activities to comply with provisions of relevant legislation; (8) coordinates the development, review, and approval of Federal regulations, Federal Register announcements, request for OMB clearance, and related activities; (9) develops and strengthens strategic partnerships with key constituent groups; and (10) facilitates communication between NCEH/ATSDR and its partners.

Delete the title and functional statement for the Office of Program Operations and Management (CN14) and insert the following:

Office of financial and Administrative Services (CN14). (1) Plans, manages, directs, and conducts the administrative and financial management operations of NCEH/ATSDR; (2) reviews the effectiveness and efficiency of administration and operation of all NCEH/ATSDR programs; (3) develops and directs systems for (4) provides and coordinates services for the extramural award activities of (5) formulates and executes the budget; and (6) develops and directs a system for cost recovery.

Delete in their entirety the title and functional statement for the Emergency Response Coordination Group (CN15).

Delete in their entirety the title and function statement for the Information Resources Management Group (CN17).

Delete in their entirety the title and functional statement for the Surveillance and Programs Branch (CN73), Division of Environmental Hazards and Health Effects (CN7).

Delete in their entirety the title and functional statement for the Risk Assessment and Communication Section (CN745), Radiation Studies Branch (CN74), Division of Environmental Hazards and Health Effects (CN7).

Delete in their entirety the title and functional statement of the Lead Poisoning Prevention Branch (CN75), Division of Environment Hazards and Health Effects (CN7).

After the functional statement for the Air Pollution and Respiratory Health Branch (CN76), insert the following:

Environmental Health Tracking Branch (CN78). (1) Coordinates development of training, capacity, and infrastructure to support and sustain the national environment public health tracking network; (2) develops and maintains quality partnerships with key stakeholders; (3) facilitates communication and coordination of environmental public health tracking activities across and within health and environmental agencies; (4) facilitates and conducts scientific activities for environmental public health tracking; (5) disseminates, communicates, and promotes use of environmental public health tracking information to diverse audiences; and (6) conducts continuous quality improvement for environmental public health tracking activities.

Delete in their entirety the title and functional statement for the Biometry Branch (CN77), Division of Environmental Hazards and Health Effects (CN7).

After the functional statement for the Division of Laboratory Sciences (CN8), insert the following:

Division of Emergency and Environmental Health Services (CN9). (1) Provides national and international leadership for the coordination, delivery, and evaluation of emergency and environmental health services, with emphasis on uniquely exposed or susceptible populations; (2) ensures the participation and involvement of the public and other stakeholders in the Division's programs, as appropriate; (3) maintains liaison with, and serves as a primary Federal resource for, emergency and environmental health service delivery to Federal, state, and local agencies; national, international, and private organizations; and academic institutions; (4) works in collaboration with other NCEH Divisions and CIOs throughout CDC to respond to, and where designated, coordinate PHS activities associated with international complex humanitarian emergencies, and with emergency response to technological and environmental disasters; (5) serves as the national focus for conducting cruise-line vessel sanitation inspections and maintaining sanitation standards including conducting diarrheal disease surveillance and disease outbreak investigations on vessels; (6) coordinates the reviews of Federal Environmental Impact Statements for HHS; (7) serves as the HHS and CDC focus for ensuring public health protection associated with chemical demilitarization processes and activities conducted by the Department of Defense and its contractors; (8) plans, develops, implements, and evaluates training programs, workshops, technical manuals and guidelines, and model standards to strengthen the technical capacity of environmental health practitioners in constituent agencies and organizations; (9) serves as the lead agency for coordinating efforts designed to achieve national program objectives and performance standards related to the elimination and prevention of childhood lead poisoning; and (10) coordinates Division activities with other CDC organizations and HHS agencies, as appropriate.

Office of the Director (CN91). Plans, directs and manages the activities of the Division.

Environmental Public Health Readiness Branch (CN92). (1) Serves as the HHS and CDC focus for chemical demilitarization-related activities; (2) conducts reviews of Department of Defense (DOD) chemical demilitarization plans, calling on appropriate experts within and outside PHS; (3) reviews air monitoring and analytical plans and performance for demilitarization of chemical weapons; (4) ensures that adequate provisions are made for public health and worker safety during chemical demilitarization activities; (5) coordinates with DOD agencies and state and local health and environmental agencies activities concerning chemical demilitarization plans and operations, including the evaluation of medical readiness; (6) performs site visits prior to, and during, chemical demilitarization operations; (7) reviews and provides relevant public health information to health professionals and the public, and ensures the participation and involvement of the public and other stakeholders, as appropriate; (8) reviews on-site emergency response plans for chemical demilitarization activities; (9) coordinates the reviews of Federal Environmental Impact Statements for HHS; (10) coordinates Branch activities through the Division and other CDC organizations; other Federal, state, and local government agencies; and other public and private organizations, as appropriate; (11) provides public health guidance and resources based on scientific evidence to state, local and international public health departments so that they may prepare and respond to the environmental public health impact caused by intentional or unintentional events; (12) develops capacity within the states to integrate new and existing epidemiologic and scientific principles into operational and programmatic expertise in emergency preparedness; (13) identifies and shares best practices from all academic and operational fields to develop appropriate technical assistance for state and local departments of health for all-hazards preparedness and response; (14) works in collaboration with other NCEH Divisions and CIOs throughout CDC to respond to, and, where designated, provide technical assistance on PHS activities associated with emergency response to technological and environmental disasters; (15) provides technical assistance, as appropriate, on health consultations and assistance in the medical care and testing of exposed individuals to private or public health care providers in cases of public health emergencies; (16) serves as the focal point for technical assistance related to the development of contingency plans, training, and operational liaison activities with other agencies and response teams engaged in emergency responses; and (17) develops, implements, and manages programs to enhance the emergency response readiness of CDC and other national, regional, state, local, and international public health organizations.

Environmental Health Services Branch (CN93). (1) Develops methods and conducts activities to ensure the translation of new technology and prevention research findings into prevention and control programs and activities at the state and local levels; (2) develops, implements, and evaluates training programs and workshops, and develops model performance standards to strengthen professional competency among environmental health practitioners at the state and local levels; (3) develops technical guidelines and model standards for environmental health program areas addressed at the state and local levels; (4) supports state and local environmental health programs through information exchange, direct technical assistance, and evaluation of existing programs; (5) supports the professional development of environmental health practitioners through collaboration with undergraduate and graduate schools of public and environmental health, state and local health agencies, and others; and (6) promotes and assists in the determination and investigation of environmental antecedents and solutions to disease problems.

International Emergency and Refugee Health Branch (CN94). (1) Coordinates, supervises, and monitors, as appropriate, CDC responses to international complex humanitarian emergencies as requested by other U.S. government agencies, United Nations agencies, and non-governmental organizations; (2) provides direct technical assistance to emergency-affected populations in the field, focusing on rapid health and nutrition assessments, public health surveillance, epidemic investigations, communicable disease prevention and control, and program evaluation; (3) develops and implements operational research projects aimed at developing more effective public health and nutrition interventions in emergency-affected populations; (4) plans, implements, and evaluates training courses and workshops to help strengthen CDC technical capacity in emergency public health of CDC, as well as that of other U.S. government agencies, international and private voluntary organizations, and schools of public health; (5) develops technical guidelines on public health issues associated with international complex humanitarian emergencies; and (6) serves as a WHO collaborating center and provides technical liaison with other international, bilateral, and non-governmental relief organizations involved with international complex humanitarian emergencies.

Vessel Sanitation Branch (CN95). (1) Conducts comprehensive sanitation inspections on vessels that have a foreign itinerary, call on U.S. ports, and carry 13 or more passengers; (2) ensures and coordinates epidemiologic investigations of diarrheal disease outbreaks occurring aboard vessels within the Branch's jurisdiction; (3) conducts ongoing surveillance of diarrheal diseases reported on vessels under the Branch's jurisdiction; (4) plans, implements, and evaluates sanitation training courses and workshops to help strengthen the technical capacity of shipboard management personnel; (5) reviews plans for vessel renovations and new vessel construction, and conducts construction inspections; (6) disseminates information on vessel sanitation inspections and other related information to the traveling public; and (7) provides direct technical assistance to cruise lines, other U.S. government agencies, foreign governments, and others on the development and maintenance of vessel sanitation standards and policies.

Lead Poisoning Prevention Branch (CN96). (1) Establishes goals and objectives for a national lead poisoning prevention program for CDC, with emphasis on childhood lead poisoning prevention; (2) works with the U.S. Department of Housing and Urban Development, U.S. Environmental Protection Agency, and other Federal agencies to develop and implement an integrated national program to eliminate childhood lead poisoning; (3) provides consultation and assistance to Federal agencies, State and community health agencies, and others, in planning, developing, and evaluating childhood lead poisoning prevention programs; (4) develops, conducts, and evaluates epidemiologic research on childhood lead poisoning, its causes, geographic distribution, trends and risk factors; (5) assists State and local government agencies as well as the international community, by providing epidemiologic assistance for special studies and investigations; (6) develops and maintains a system for the collection and dissemination of information on program issues, research findings and health communications related to program activities; (7) develops and helps implement, in concert with other Federal agencies, national organizations, and other appropriate groups, a training agenda for health professionals and workers in childhood lead poisoning prevention activities; (8) serves as the lead agency for coordinating efforts designed to achieve national program objectives and performance standards related to the prevention of childhood lead poisoning; (9) coordinates Branch activities through the Division with other components of CDC, other Federal, State, and local government agencies; and other public and private organizations, as appropriate; and (10) provides support to the Advisory Committee on Childhood Lead Poisoning Prevention in planning meetings, staffing members, drafting policy statements, and developing an agenda of issues to be addressed by the Committee.

Dated: December 16, 2003.
William H. Gimson,
Chief Operating Officer, Centers for Disease Control and Prevention (CDC).

[FR Doc. 03-31906 Filed 12-31-03; 8:45 am]

BILLING CODE 4160-18-M